FEDERAL MARITIME COMMISSION

[Docket No. 17-08]

Carlstar Group LLC F/K/A Carlisle Transportation Products, Inc. and CTP Transportation Products, LLC v. UTi, United States, Inc.; UTi United States, LLC; and DSV Air & Sea, Inc.; Notice of Filing of Complaint and Assignment

Notice is given that a complaint has been filed with the Federal Maritime Commission (Commission or FMC) by Carlstar Group LLC f/k/a Carlisle Transportation Products, Inc. and CTP Transportation Products, LLC, hereinafter “Complainant,” against UTi, United States, Inc.; UTi United States, LLC; and DSV Air & Sea, Inc., hereinafter “Respondents.” Complainant states it is a Tennessee corporation and “. . . is an industry leader of specialty tires and wheels for various markets, including agriculture, construction, ATV, high-speed trailer, and lawn and garden.” Complainant alleges that Respondent UTi, United States, Inc., is a FMC licensed “. . . non-vessel [operating] common carrier (“NVOCC”) [that is] organized under the laws of the State of New York.” Complainant also states that Respondent DSV Air & Sea, Inc. is a New Jersey headquartered freight forwarder, that “. . . is a successor-in-interest to UTi, United States, Inc. . . . [and] provides transport and logistics services, including warehousing, distribution, packing, and loading.” Complainant also states that Respondent UTi United States, LLC “. . . is a successor-in-interest to UTi, United States, Inc, is a subsidiary of DSV Air & Sea, Inc. and is registered as a Delaware company.”

Complainant alleges that all parties “. . . executed an agreement dated June 1, 2011 . . . [in order] for UTi to provide [Complainant] ‘world-class ocean freight negotiation and management services’ including, but not limited to, ‘freight forwarding, brokerage, contract logistics and consulting services’ . . .” Complainant alleges that during the life of the agreement, it was overcharged by Respondent and has incurred damages “in the amount of at least $5,155,170.06” in violation of the Shipping Act, in particular:

1. “. . . 46 U.S.C. 41102(c) by failing to establish, observe, and enforce just and reasonable regulations and practices relating to or connected with receiving, handling, storing, or delivering property”;

2. “. . . 46 U.S.C. 41104(2) by charging rates greater than the published tariff and/or the Agreements”; and

3. “. . . 46 U.S.C. 41102(4) by charging unfair and potentially discriminatory fees.”

Complainant seeks “. . . an order be entered commanding Respondents to pay Carlstar reparations for violations of the Shipping Act . . .” and other relief. The full text of the complaint can be found in the Commission's Electronic Reading Room at www.fmc.gov/17-08/.

This proceeding has been assigned to the Office of Administrative Law Judges. The initial decision of the presiding officer in this proceeding shall be issued by September 5, 2018, and the final decision of the Commission shall be issued by March 19, 2019.

Rachel E. Dickon,
Assistant Secretary.

[FR Doc. 2017-19134 Filed 9-8-17; 8:45 am]

BILLING CODE 6731-AA-P